NATIONAL AERONAUTICS AND SPACE ADMINISTRATION

[Notice 02-125]

NASA Advisory Council, Earth Systems Science and Applications Advisory Committee; Meeting

AGENCY: National Aeronautics and Space Administration (NASA).

ACTION: Notice of Meeting.

SUMMARY: In accordance with the Federal Advisory Committee Act, Pub. L. 92-463, as amended, the National Aeronautics and Space Administration announces a meeting of the NASA Advisory Council (NAC), Earth Systems Science and Applications Advisory Committee (ESSAAC).

DATES: Wednesday, November 13, 2002, 8:30 a.m. to 5:30 p.m.; and Thursday, November 14, 2002, 8:30 a.m. to 5:30 p.m.

ADDRESSES: Channel Inn Hotel, 650 Water Street SW, Captain's Room, Washington, DC 20024.

FOR FURTHER INFORMATION CONTACT: Mr. Gregory Williams, Code Y, National Aeronautics and Space Administration, Washington, DC 20546, 202/358-0241.

SUPPLEMENTARY INFORMATION: The meeting will be open to the public up to the seating capacity of the room. The agenda for the meeting is as follows:

• Welcome and Opening Remarks

• Agency Perspective & Plans

• Earth Science Enterprise (ESE) Perspective

• Climate Change Research Initiative / U.S. Global Change Research Program

• Overview & ESE Strategic Plan

• Research Strategy & Implementation Planning

• Applications Strategy & Implementation Planning

• NASA and ESE Education Planning—Data and Information Systems Strategy “ Earth Science Information Systems and Services Subcommittee Update

• Technology Strategy and Implementation—Technology Subcommittee Update

• Committee Discussion/Writing Session

It is imperative that the meeting be held on these dates to accommodate the scheduling priorities of the key participants. Visitors will be requested to sign a visitors' register.

June W. Edwards,
Advisory Committee Management Officer, National Aeronautics and Space Administration.

[FR Doc. 02-27252 Filed 10-24-02; 8:45 am]

BILLING CODE 7510-01-P